DEPARTMENT OF DEFENSE

Office of the Secretary

[Transmittal No. 20-46]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-46 with attached Policy Justification.

Dated: August 14, 2020.
Aaron T. Siegel,
Alternate OSD Federal Register Liaison Officer, Department of Defense.

BILLING CODE 5061-06-C

Transmittal No. 20-46

Notice of Proposed Issuance of Letter of Offer Pursuant to Section 36(b)(1) of the Arms Export Control Act, as amended

(i) Prospective Purchaser: Republic of Korea

(ii) Total Estimated Value:

Major Defense Equipment * | $ 0 million
Other | $250 million
TOTAL | $250 million

(iii) Description and Quantity or Quantities of Articles or Services under Consideration for Purchase: The Republic of Korea has requested to buy items and services to extend follow-on support to its Peace Krypton reconnaissance aircraft.

Major Defense Equipment (MDE):

None

Non-MDE:

Included are Ground System Modernization (GSM) and sustainment of Prime Mission Equipment (PME); Field Service Representatives (FSR); minor modifications and upgrades; Joint Mission Planning System (JMPS); spares and repair and return of parts; publications and technical documentation; U.S. Government and contractor engineering, technical, and logistical support services; and other related elements of logistics and program support.

(iv) Military Department: Air Force (KS-D-QEU)

(v) Prior Related Cases, if any: KS-D-GCB, KS-D-PAI

(vi) Sales Commission, Fee, etc., Paid, Offered, or Agreed to be Paid: None

(vii) Sensitivity of Technology Contained in the Defense Article or Defense Services Proposed to be Sold: None

(viii) Date Report Delivered to Congress: July 10, 2020

* As defined in Section 47(6) of the Arms Export Control Act.

POLICY JUSTIFICATION

Korea—Peace Krypton Follow-On Support and Equipment Upgrades

The Republic of Korea has requested to buy items and services to extend follow-on support to its Peace Krypton reconnaissance aircraft. Included are Ground System Modernization (GSM) and sustainment of Prime Mission Equipment (PME); Field Service Representatives (FSR); minor modifications and upgrades; Joint Mission Planning System (JMPS); spares and repair and return of parts; publications and technical documentation; U.S. Government and contractor engineering, technical, and logistical support services; and other related elements of logistics and program support. The estimated total program cost is $250 million.

This proposed sale will support the foreign policy goals and national security objectives of the United States by improving the security of a Major Non-NATO Ally that is a force for political stability and economic progress in the Pacific region.

The proposed sale will improve Korea's capability to meet current and future threats by supporting operation of its fleet of Peace Krypton aircraft and enabling continued Intelligence, Surveillance and Reconnaissance (ISR) interoperability with the United States. Korea will have no difficulty absorbing this follow-on support into its armed forces.

The proposed sale of this equipment and support will not alter the basic military balance in the region.

The principal contractor will be Lockheed Martin, Bethesda, MD. There are no known offset requirements associated with this sale.

Implementation of this proposed sale will not require the assignment of any additional U.S. Government or contractor representatives to the Republic of Korea.

There will be no adverse impact on U.S. defense readiness as a result of this proposed sale.

[FR Doc. 2020-18785 Filed 8-25-20; 8:45 am]

BILLING CODE 5001-06-P